DEPARTMENT OF THE INTERIOR

National Park Service

[N6762; NPS-WASO-NAGPRA-NPS0041526; PPWOCRADN0-PCU00RP14.R50000]

Notice of Intended Repatriation: Maidu Museum & Historic Site, Roseville, CA

AGENCY: National Park Service, Interior.

ACTION: Notice.

SUMMARY: In accordance with the Native American Graves Protection and Repatriation Act (NAGPRA), the Maidu Museum & Historic Site intends to repatriate certain cultural items that meet the definition of objects of cultural patrimony and that have a cultural affiliation with the Indian Tribes or Native Hawaiian organizations in this notice.

DATES: Repatriation of the cultural items in this notice may occur on or after January 20, 2026.

ADDRESSES: Send additional, written requests for repatriation of the cultural items in this notice to Alesha Martinez, Maidu Museum & Historic Site, 1970 Johnson Ranch Drive, Roseville, CA 95661, email ammartinez@roseville.ca.us.

SUPPLEMENTARY INFORMATION: This notice is published as part of the National Park Service's administrative responsibilities under NAGPRA. The determinations in this notice are the sole responsibility of the Maidu Museum & Historic Site, and additional information on the determinations in this notice, including the results of consultation, can be found in the summary or related records. The National Park Service is not responsible for the determinations in this notice.

Abstract of Information Available

A total of 14 lots of objects of cultural patrimony have been requested for repatriation. The 14 lots of objects of cultural patrimony are four lots of modified stones, two lots of unmodified stones, two lots of plant material, two lots of faunal material, one lot of historical material, one lot of shell, one lot of anthropogenic soil, and one lot of unidentified material.

In 1976, one lot of objects of cultural patrimony consisting of modified stones was removed from Roseville, Placer County, CA. The objects of cultural patrimony were accessioned at the Maidu Museum & Historic Site under Accession Number 2010.010.

In 1993, one lot of objects of cultural patrimony consisting of modified stones was removed from Granite Bay, Placer County, CA. The objects of cultural patrimony were accessioned at the Maidu Museum & Historic Site under Accession Number 2013.002.

At various unknown dates, four lots of objects of cultural patrimony were removed from west Placer County, CA. These include one lot of modified stones, one lot of unmodified stones, one lot of plant materials, and one lot of faunal materials. The objects of cultural patrimony were accessioned at the Maidu Museum & Historic Site under Accession Numbers 2000.003, 2000.004, 2000.005, 2001.001, 2004.002, and 2006.012.

Eight additional lots of objects of cultural patrimony are reasonably believed to have been removed from somewhere in west Placer County, CA, at various unknown dates. The eight lots of objects of cultural patrimony are one lot of modified stones, one lot of unmodified stones, one lot of plant material, one lot of faunal material, one lot of historical material, one lot of shell, one lot of anthropogenic soil, and one lot of unidentified material from a variety of Accession Numbers at the Maidu Museum & Historic Site, including 2000.006, 2001.003, 2004.004, 2005.002, 2005.004, 2006.014, 2005.002-P, and T2024.000.

The Maidu Museum & Historic Site does not have record of any known potentially hazardous substances used to treat any of the cultural items.

Determinations

The Maidu Museum & Historic Site has determined that:

• The 14 lots of objects of cultural patrimony described in this notice have ongoing historical, traditional, or cultural importance central to the Native American group, including any constituent sub-group (such as a band, clan, lineage, ceremonial society, or other subdivision), according to the Native American traditional knowledge of an Indian Tribe or Native Hawaiian organization.

• There is a connection between the cultural items described in this notice and the United Auburn Indian Community of the Auburn Rancheria of California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after January 20, 2026. If competing requests for repatriation are received, the Maidu Museum & Historic Site must determine the most appropriate requestor prior to repatriation. Requests for joint repatriation of the cultural items are considered a single request and not competing requests. The Maidu Museum & Historic Site is responsible for sending a copy of this notice to the Indian Tribes and Native Hawaiian organizations identified in this notice and to any other consulting parties.

Authority: Native American Graves Protection and Repatriation Act, 25 U.S.C. 3004 and the implementing regulations, 43 CFR 10.9.

Dated: December 3, 2025.
Melanie O'Brien,
Manager, National NAGPRA Program.

[FR Doc. 2025-23204 Filed 12-17-25; 8:45 am]

BILLING CODE 4312-52-P